DEPARTMENT OF THE INTERIOR

Bureau of Land Management

DEPARTMENT OF AGRICULTURE

Forest Service

[CA 668-02-1610-DO-083A]

Monument Advisory Committee Meeting

AGENCY: Bureau of Land Management, Interior; United States Forest Service, Agriculture.

ACTION: Notice of meeting.

SUMMARY: The Bureau of Land Management (BLM) and United States Forest Service (USFS) announce a meeting of the Advisory Committee to the Santa Rosa and San Jacinto Mountains National Monument (hereinafter referred to as “National Monument”). The meeting will be held on Monday, January 28, in the Hoover Room of the Education Center at the Living Desert, 47900 Portola Avenue, Palm Desert, California 92260. Meeting hours will be 8:30 a.m. until 4 p.m. The proposed agenda for the meeting will include a welcome and introductions followed by (1) an overview of the National Monument, (2) review of the National Monument advisory committee charter, (3) discussion of the guidelines and processes under which the advisory committee members will advise the BLM and USFS in the management and planning of the Monument, (4) election of committee chair and committee vice chairperson, (5) establishment of subsequent meeting schedule, and (6) a public question and answer period scheduled for 3 p.m.

The Monument Advisory Committee (MAC) is a committee of citizens appointed to provide advice to the BLM and USFS with respect to preparation and implementation of the management plan for the National Monument as required in the Santa Rosa and San Jacinto Mountains National Monument Act of 2000 (16 U.S.C. 431nt). The act authorized establishment of the MAC with representative members from State and local jurisdictions, the Agua Caliente Band of Cahuilla Indians, a natural science expert, local conservation organization, local developer or building organization, the Winter Park Authority and a representative from the Pinyon Community Council.

The meeting will be open to the public with attendance limited to space available. Individuals who plan to attend and need special assistance such as sign language interpretations or other reasonable accommodations should notify the contact person listed below in advance of the meeting. Persons wishing to make statements should register with the BLM by noon at the meeting location. Speakers should address specific issues listed on the agenda and provide a written copy of their statement.

DATES: January 28, 2002; 8:30 a.m. to 4 p.m with public comment period beginning at 3 p.m.

ADDRESSES: The meeting will be held in the Hoover Room of the Education Center at the Living Desert, 47900 Portola Avenue, Palm Desert, California 92260.

FOR FURTHER INFORMATION CONTACT: Written comments should be sent to Mr. James G. Kenna—Field Manager, Palm Springs-South Coast Field Office, Bureau of Land Management, P.O. Box 581260, North Palm Springs, CA 92258; or by fax at (760) 251-4899 or by email at cdunning@ca.blm.gov. Information can be found on our webpage: http://www.ca.blm.gov/palmsprings/. Documents pertinent to this notice, including comments with the names and addresses of respondents, will be available for public review at the Palm Springs-South Coast Field Office located at 690 W. Garnet Avenue, North Palm Springs, California, during regular business hours, 7:45 a.m. to 4:30 p.m., Monday through Friday, except holidays.

SUPPLEMENTARY INFORMATION: The Santa Rosa and San Jacinto Mountains National Monument was established by act of Congress and signed into law on October 24, 2000. The National Monument was established in order to preserve the nationally significant biological, cultural, recreational, geological, educational and scientific values found in the Santa Rosa and San Jacinto Mountains. This legislation established the first monument to be jointly managed by the Bureau of Land Management (BLM) and the U.S. Forest Service (USFS). The Santa Rosa and San Jacinto Mountains National Monument Act of 2000 affects only Federal lands and Federal interests located within the established boundaries.

The 272,000 acre Monument encompasses 86,400 acres of Bureau of Land Management lands, 64,400 acres of Forest Service lands, 23,000 acres of Agua Caliente Band of Cahuilla Indians lands, 8,500 acres of California Department of Parks and Recreation lands, 35,800 acres of other State of California agencies lands, and 53,900 acres of private land. The BLM and the Forest Service will jointly manage Federal lands in the National Monument in coordination with the Agua Caliente Band of Cahuilla Indians, other federal agencies, state agencies and local governments.

All committee and subcommittee meetings, including field examinations, will be open to the general public, including representatives of the news media. Any organization, association, or individual may file a statement with or appear before the committee and its subcommittees regarding topics on a meeting agenda—except that the chairperson or the designated federal official may require that presentations be reduced to writing and that copies be filed with the committee. Pursuant to the Federal Advisory Committee Act, meetings of the committee may be called only by the designated federal official, or his or her designee, after consultation with the committee chairperson. The Designated Federal Official required by the Federal Advisory Committee Act will be the Field Manager or District Ranger, or their designees, who will attend all meetings of the committee and any subcommittee thereof. Early and ongoing participation is encouraged and will help determine the future management of Federally managed public lands within the Santa Rosa and San Jacinto Mountains National Monument. Written comments will be accepted and considered throughout the entire planning process.

Dated: November 14, 2001.
Danella George,
Assistant Field Manager, Palm Springs-South Coast Field Office.
Douglas Pumphery,
District Ranger, Idyllwild Ranger District.

[FR Doc. 02-589 Filed 1-9-02; 8:45 am]

BILLING CODE 4310-32-P